CHEMICAL SAFETY AND HAZARD INVESTIGATION BOARD

Sunshine Act Meeting

Time and Date: Thursday, September 23, 2004, at 7 p.m. local time.

Place: Kinston High School—Performing Arts Center, 2601 North Queen Street, Kinston, NC 28501—telephone: (252) 527-8067.

Status: Open to the public.

Matters to be Considered: The Chemical Safety and Hazard Investigation Board (CSB) is convening this public meeting in connection with its investigation of an explosion and fire that occurred on January 29, 2003, at a plant owned by West Pharmaceutical Services, Inc. in Kinston, North Carolina.

At the meeting CSB staff will present to the Board the results of their investigation into this incident, including an analysis of the incident, a discussion of the key findings, root and contributing causes, and draft recommendations. The CSB staff presentation will focus on three key safety issues: hazard recognition and communication, good engineering practice, and amendments to fire codes.

After the staff presentations the Board will allow time for public comment. Following the conclusion of the comment period, the Board will consider whether to vote to approve the investigation report.

All staff presentations are preliminary and are intended solely to allow the Board to consider in a public forum the issues and factors involved in the cases. Factual analyses, conclusions, or findings contained in the staff presentations should not be considered final. Only after the Board has considered the staff presentation and approved the staff report will it be a final Board product.

This meeting will be open to the public. Please notify CSB if a translator or interpreter is needed, at least five (5) business days prior to the meeting.

Contact Person for More Information: Daniel Horowitz, (202) 261-7600.

Dated: September 9, 2004.
Christopher W. Warner,
General Counsel.

[FR Doc. 04-20739 Filed 9-9-04; 4:54 pm]

BILLING CODE 6350-01-P